ARCTIC RESEARCH COMMISSION

Notice of Meeting

May 10, 2010.

Notice is hereby given that the U.S. Arctic Research Commission will hold its 93rd meeting in Washington, DC, on June 2-3, 2010. The business session, open to the public, will convene June 3 at 8:30 a.m.

The Agenda items include:

(1) Call to order and approval of the agenda.

(2) Approval of the minutes from the 92nd meeting.

(3) Commissioners and staff reports.

(4) Discussion and presentations concerning Arctic research activities.

The focus of the meeting will be reports and updates on programs and research projects affecting the Arctic.

If you plan to attend this meeting, please notify us via the contact information below. Any person planning to attend who requires special accessibility features and/or auxiliary aids, such as sign language interpreters, must inform the Commission of those needs in advance of the meeting.

Contact person for further information: John Farrell, Executive Director, U.S. Arctic Research Commission, 703-525-0111 or TDD 703-306-0090.

John Farrell,
Executive Director.

[FR Doc. 2010-12712 Filed 5-27-10; 8:45 am]

BILLING CODE 7555-01-M